DEPARTMENT OF TRANSPORTATION

Federal Motor Carrier Safety Administration

[Docket No. FMCSA-2011-0074]

Agency Information Collection Activities; Request for Comments on a New Information Collection: Evaluating the Safety Benefits of an On-Board Monitoring System in Commercial Vehicle Operations: Independent Evaluation and Data Analysis

AGENCY: Federal Motor Carrier Safety Administration, DOT.

ACTION: Notice and request for comments.

SUMMARY: In accordance with the Paperwork Reduction Act of 1995, FMCSA announces its plan to submit the Information Collection Request (ICR) described below to the Office of Management and Budget (OMB) for its review and approval and invites public comment. The purpose of this information collection is to assess Commercial Motor Vehicle (CMV) drivers' expectations, attitudes and acceptance of an on-board monitoring system (OBMS), as a part of a Field Operational Test (FOT) study.

DATES: We must receive your comments on or before May 31, 2011.

ADDRESSES: You may submit comments bearing the Federal Docket Management System (FDMS) Docket Number FMCSA-2011-0074 using any of the following methods:

• Federal eRulemaking Portal: Go to http://www.regulations.gov. Follow the on-line instructions for submitting comments.

• Mail: Docket Management Facility, U.S. Department of Transportation, 1200 New Jersey Avenue, SE., West Building Ground Floor, Room W12-140, Washington, DC 20590-0001.

• Hand Delivery: West Building Ground Floor, Room W12-140, 1200 New Jersey Avenue, SE., Washington, DC 20590-0001 between 9 a.m. and 5 p.m., EST, Monday through Friday, except Federal Holidays.

• Fax: 1-202-493-2251.

Each submission must include the Agency name and the docket number for this Notice. Note that DOT posts all comments received without change to http://www.regulations.gov, including any personal information included in a comment. Please see the Privacy Act heading below.

Docket: For access to the docket to read background documents or comments, go to http://www.regulations.gov at any time or to Room W12-140 on the ground level of the West Building, 1200 New Jersey Avenue, SE., Washington, DC 20590-0001 between 9 a.m. and 5 p.m., Monday through Friday, except Federal holidays. Regulations.gov is available 24 hours each day, 365 days each year. If you want acknowledgement that we received your comments, please include a self-addressed, stamped envelope or post card or print the acknowledgement page that appears after submitting them on-line.

Privacy Act: Anyone is able to search the electronic form of all comments received into any of our dockets by the name of the individual submitting the comment (or of the person signing the comment, if submitted on behalf of an association, business, labor union, etc.). You may review DOT's complete Privacy Act Statement for the Federal Docket Management System published in the Federal Register on January 17, 2008 (73 FR 3316), or you may visit http://edocket.access.gpo.gov/2008/pdf/E8-785.pdf.

FOR FURTHER INFORMATION CONTACT: Olu Ajayi, Research Division, Department of Transportation, Federal Motor Carrier Safety Administration, West Building 6th Floor, 1200 New Jersey Avenue, SE., Washington, DC 20590. Telephone: 202-366-0440; e-mail olu.ajayi@dot.gov.

SUPPLEMENTARY INFORMATION:

Background: The goal of the OBMS and safety research study (FOT) is to determine whether on-board monitoring and feedback will reduce at-risk behavior among CMV drivers and improve driver safety performance. The purpose of the questionnaire portion is to assess CMV drivers' acceptance on the OBMS being evaluated in the FOT. A series of four unique questionnaires will be conducted in the Baseline (no feedback), Intervention (receiving feedback), and Withdrawal (no feedback) periods. These questionnaires will address the CMV drivers' expectations, experiences and attitudes toward the OBMS and assess changes in their perception over the 18-month study period. All study questionnaires will be available in both paper and electronic form. The results will be summarized and integrated into the rest of the larger FOT study report that evaluates the effectiveness of the OBMS in improving safety and driver performance.

Title: Evaluating the Safety Benefits of an On-Board Monitoring system in Commercial Vehicle Operations: Independent Evaluation and Data Analysis.

OMB Control Number: 2126-XXXX.

Type of Request: New collection.

Respondents: Commercial motor vehicle (CMV) drivers.

Estimated Number of Respondents: 500 CMV drivers.

Estimated Time per Response: 20 minutes for the pre-study questionnaire, 15 minutes for during- and post-study questionnaires, and 20 minutes for the exit interview at the end of the study.

Expiration Date: N/A.

Frequency of Response: Drivers will be asked to take a total of six questionnaires over a course of 18 months and one in-person interview at the end of the study.

Estimated Total Annual Burden: 792 hours [(250 responses × 20 minutes/60 minutes for pre-study questionnaire) + (1,250 responses × 15 minutes/60 minutes for intervention questionnaire) + (1,250 responses × 15 minutes/60 minutes for withdrawal questionnaire) + (250 responses × 20 minutes/60 minutes for exit interview) = 792 hours].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize and include your comments in the request for OMB's clearance of this information collection.

Issued on: March 15, 2011.
Kelly Leone,
Associate Administrator for Research and Information Technology.

[FR Doc. 2011-7251 Filed 3-28-11; 8:45 am]

BILLING CODE 4910-EX-P